OFFICE OF THE UNITED STATES TRADE REPRESENTATIVE

North American Free Trade Agreement: Sanitary and Phytosanitary Committee

AGENCY: Office of the United States Trade Representative.

ACTION: Notice of public meeting and request for comments.

SUMMARY: In accordance with legislation implementing the North American Free Trade Agreement, we are informing the public of a meeting to be held Thursday, September 7, 2000 at the U.S. Department of Agriculture (USDA) in Washington, DC. The purpose of this meeting is to solicit public comment on proposed agenda items for the next scheduled meeting of the North American Free Trade Agreement (NAFTA) Sanitary and Phytosanitary (SPS) Committee, September 19-20, 2000, in Washington, DC. It is also to seek public input in identifying any new issues of concern that should be considered for the agenda. Representatives from each of the SPS Committee's eight Technical Working Groups (TWGs) will also be present to apprise the public of each TWG's progress and to respond to questions.

The September meeting will be the Ninth Meeting of the NAFTA SPS Committee and will include the co-chairs from the TWGs that report to the Committee. The purpose of the NAFTA SPS Committee is to address sanitary and phytosanitary trade issues affecting the entry of agricultural products among the three member countries.

DATES: The public meeting date is Thursday, September 7, 2000, 9 a.m. to 11 a.m., USDA South Building (at the back of the USDA cafeteria, first floor, 14th Street and Independence Avenue, SW, Washington, DC. Written comments should be submitted by September 4, 2000.

FOR FURTHER INFORMATION CONTACT: Carolyn T. Cohen, Foreign Agricultural Service, International Trade Policy, Food Safety and Technical Services Division, Room 5545, South Building, 14th Street and Independence Avenue SW, Washington, DC 20250, (202) 720-1301; or e-mail ofsts@fas.usda.gov.

SUPPLEMENTARY INFORMATION: In accordance with Article 722 of NAFTA, the NAFTA SPS Committee is responsible for facilitating: (a) The enhancement of food safety and sanitary and phytosanitary conditions in the territories of the part is; (b) activities of the Parties pursuant to Articles 713 and 714 relating respectively to international standards and equivalence; (c) technical cooperation; and (d) consultation on specific bilateral issues. An SPS issue can be raised by any party and is sent to the Committee for consideration. The Committee will either consider the matter itself or refer the issue to an individual, working group or relevant standard setting organization for technical advice.

Since the entry into force of NAFTA on January 1, 1994, the NAFTA SPS Committee has met on eight separate occasions: March 24, 1994 in Washington, DC; October 6, 1994 in Washington, DC; September 21, 1995 in Mexico City; February 14, 1996 in Mexico City; June 20, 1996 in Ottawa; November 18-19, 1997 in Washington, DC; November 4-5, 1998 in Mexico City; and November 2-3, 1999 in Ottawa. The Committee meets at least once a year with meetings rotating among the three countries. Each TWG is to send at least one representative to the annual Committee meeting to report on its progress and activity. The nine TWGS under the NAFTA SPS Committee and their points of contact (POC) are as follows:

1. Animal Health: POC: Dr. Alfonso Torres, Veterinary Services, Animal and Plant Health Inspection Service (APHIS), USDA.

2. Plant Health, Seeds & Fertilizers: POC: Dr. Ric Dunkle, Plant Protection and Quarantine, APHIS, USDA.

3. Fish & Fishery Product Inspection: POC: Dr. Philip Spiller, Office of Seafood, Food and Drug Administration (FDA).

4. Meat, Poultry & Egg Inspection: POC: Dr. John C. Prucha, Food Safety Inspection Service, USDA.

5. Dairy, Fruits, Vegetables and Processed Foods: POC: Dr. Terry Troxell, Office of Plant & Dairy Foods & Beverages, FDA.

6. Veterinary Drugs & Feed: POC: Dr. Robert Livingstone, Center for Veterinary Medicine, FDA.

7. Food Additives and Contaminants: POC: Dr. Alan Rulis, Office of Pre-Market Approval, FDA.

8. Pesticides: POC: Ms. Marcia Mulkey, Office of Pesticide Programs, Environmental Protection Agency.

9. Labeling, Packaging & Standards: POC: Dr. Christine J. Lewis, Office of Nutritional Products, Labeling and Dietary Supplements, FDA.

PUBLIC MEETING: The public meeting will take place at the U.S. Department of Agriculture, 1400 Independence Ave. SW., Washington, DC, (at the back of USDA cafeteria, 1st floor).

WRITTEN COMMENTS: Those persons wishing to submit written comments should provide five (5) typed copies to Richard White, Director for SPS Affairs, Office of the United States Trade Representatives, 600 17th St., NW., Room 421; Washington, DC 20508. If the submission contains business confidential information, five copies of a confidential version must also be submitted. A justification as to why the information contained in the submission should be treated confidentially must be included in the submission. In addition, any submissions containing business confidential information must be clearly marked “Confidential” at the top and bottom of the cover page (or letter) and of each succeeding page of the submission. The version that does not contain confidential information should also be clearly marked, at the top and bottom of each page, “public version” or “nonconfidential.”

Written comments submitted in connection with this request, except for information granted “business confidential” status pursuant to 15 CFR 20003.6, will be available for public inspection in the USTR Reading Room, Room 101, Office of the United States Trade Representatives, 600 17th Street, NW., Washington, DC. An appointment to review the file may be made by calling Brenda Webb (202) 395-6186. The Reading Room is open to the public from 9:30 a.m. to 12 noon, and from 1 p.m. to 4 p.m., Monday through Friday.

David Walters,
Acting Chairman, Trade Policy Staff Committee.

[FR Doc. 00-21215 Filed 8-18-00; 8:45 am]

BILLING CODE 3190-01-M